OFFICE OF PERSONNEL MANAGEMENT

Submission for Review: 3206-0170, Application for Refund of Retirement Deductions, SF 3106 and Current/Former Spouse(s) Notification of Application for Refund of Retirement Deductions Under FERS, SF 3106A

AGENCY: Office of Personnel Management.

ACTION: 30-Day notice and request for comments.

SUMMARY: Retirement Services, Office of Personnel Management (OPM) offers the general public and other federal agencies the opportunity to comment on an expiring information collection request (ICR) with minor edits, Application for Refund of Retirement Deductions, SF 3106 and Current/Former Spouse(s) Notification of Application for Refund of Retirement Deductions under FERS, SF 3106A.

DATES: Comments are encouraged and will be accepted until July 28, 2021.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0170) was previously published in the Federal Register on December 30, 2020 at 85 FR 86583, allowing for a 60-day public comment period. One comment was received. Our response is as follows: “This is written in response to the comment on Federal Register Document #2020-28900 regarding the Application for Refund of Retirement Deductions, Standard Form (SF)-3106 and Current/Former Spouse(s) Notification of Application for Refund of Retirement Deductions Under FERS, SF-3106A.

The Standard Form 3106 is used by former Federal employees under the Federal Employees Retirement System (FERS) to apply for a refund of retirement deductions withheld during Federal employment, plus any interest provided by law. Standard Form 3106A, Current/Former Spouse(s) Notification of Application for Refund of Retirement Deductions under FERS, is used by refund applicants to notify their current/former spouse(s) that they are applying for a refund of retirement deductions, which is required by law.

The Office of Personnel Management finds that the comments received are not relevant to the use of these forms. The Uniformed Services Employment and Reemployment Rights Act of 1994 (USERRA) covers certain Federal employees in the armed forces, the reserves, the National Guard and commissioned corps of the Public Health Service. The USERRA law allows for restoration to the position he or she would have attained had the employee not entered the uniformed service provided certain conditions are met. Since enactment of the law, OPM has provided guidance to agencies on processing service credit deposits for such cases.

It appears that the comments are case specific to the processing of service credit deposits. If denied the opportunity to make the service credit deposit, the individual would have received a denial decision and provided information on his/her right to file a request for reconsideration.”

The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 3106, Application for Refund of Retirement Deductions under FERS is used by former Federal employees under FERS, to apply for a refund of retirement deductions withheld during Federal employment, plus any interest provided by law. Standard Form 3106A, Current/Former Spouse(s) Notification of Application for Refund of Retirement Deductions under FERS, is used by refund applicants to notify their current/former spouse(s) that they are applying for a refund of retirement deductions, which is required by law.

Analysis

Agency: Retirement Operations, Retirement Services, Office of Personnel Management.

Title: Application for Refund of Retirement Deductions under FERS.

OMB Number: 3206-0170.

Frequency: On occasion.

Affected Public: Individuals or Households.

Number of Respondents: SF 3106 = 8,000; SF 3106A = 6,400.

Estimated Time per Respondent: SF 3106 = 30 minutes; SF 3106A = 5 minutes.

Total Burden Hours: 4,533 hours.

Office of Personnel Management.
Alexys Stanley,
Regulatory Affairs Analyst.

[FR Doc. 2021-13662 Filed 6-25-21; 8:45 am]

BILLING CODE 6325-38-P